ENVIRONMENTAL PROTECTION AGENCY

[FRL-8561-4; Docket ID No. EPA-HQ-ORD-2008-0165]

Draft Toxicological Review of Propionaldehyde: In Support of Summary Information on the Integrated Risk Information System

AGENCY: Environmental Protection Agency (EPA).

ACTION: Notice of peer-review meeting.

SUMMARY: EPA is announcing that Versar, Inc., an EPA contractor for external scientific peer review, will convene an independent panel of experts and organize and conduct an external peer-review meeting via teleconference to review the external review draft document titled, “Toxicological Review of Propionaldehyde: In Support of Summary Information on the Integrated Risk Information System (IRIS)” (EPA/635/R-08/003A). A 60-day public comment period for the draft document was announced on March 6, 2008 (73 FR 12171-12172). The draft document was prepared by the National Center for Environmental Assessment (NCEA) within EPA's Office of Research and Development. The public comment period and the external peer-review meeting are separate processes that provide opportunities for all interested parties to comment on the document.

EPA is releasing this draft document solely for the purpose of pre-dissemination peer review under applicable information quality guidelines. This document has not been formally disseminated by EPA. It does not represent and should not be construed to represent any Agency policy or determination.

Versar, Inc. invites the public to register to attend this meeting as observers. In addition, Versar, Inc. invites the public to give oral and/or provide written comments at the meeting regarding the draft document under review. The draft document and EPA's peer-review charge are available primarily via the Internet on NCEA's home page under the Recent Additions and the Data and Publications menus at http://www.epa.gov/ncea. In preparing a final report, EPA will consider the Versar, Inc. report of the comments and recommendations from the external peer-review meeting and any public comments that EPA receives.

DATES: The peer-review panel meeting will begin on May 29, 2008, at 10:30 a.m. and end at 2:30 p.m. EST. As announced on March 6, 2008 (73 FR 12171-12172), the 60-day public comment period began March 6, 2008, and ends May 5, 2008. Technical comments should be in writing and must be received by EPA by May 5, 2008.

ADDRESSES: The peer-review meeting will be held via teleconference. The EPA contractor, Versar, Inc., is organizing, convening, and conducting the peer-review meeting. To attend the meeting, register by May 23, 2008, by calling Versar, Inc. at 703-750-3000 ext. 316, sending a facsimile to 703-642-6954, or sending an e-mail to ssarraino@versar.com. You may also register via the Internet at http://epa.versar.com/propionaldehyde.

The draft “Toxicological Review of Propionaldehyde: In Support of Summary Information on the Integrated Risk Information System (IRIS)” is available primarily via the Internet on the National Center for Environmental Assessment's home page under the Recent Additions and the Data and Publications menus at http://www.epa.gov/ncea. A limited number of paper copies are available from the Information Management Team, NCEA; telephone: 703-347-8561; facsimile: 703-347-8691. If you are requesting a paper copy, please provide your name, mailing address, and the document title, “Toxicological Review of Propionaldehyde: In Support of Summary Information on the Integrated Risk Information System (IRIS).” Copies are not available from Versar, Inc.

FOR FURTHER INFORMATION CONTACT: Questions regarding information, registration, access or services for individuals with disabilities, or logistics for the external peer-review meeting should be directed to Stephanie Sarraino, Versar, Inc., Springfield, VA 22151; telephone: 703-750-3000 ext. 316; facsimile: 703-642-6954; e-mail ssarraino@versar.com. To request accommodation of a disability, please contact Versar, Inc. preferably at least 10 days prior to the meeting, to give as much time as possible to process your request.

If you need technical information about the document, please contact John Stanek, National Center for Environmental Assessment (NCEA); telephone: 919-541-1048; facsimile: 919-541-0245; e-mail: stanek.john@epa.gov.

SUPPLEMENTARY INFORMATION:

I. Summary of Information About the Project/Document

The draft Toxicological Review of Propionaldehyde is a new assessment and provides scientific information on the effects pertaining to exposure to propionaldehyde. Propionaldehyde was nominated by the EPA Office of Air and Radiation in 2000 and 2001 and by the Office of Air Quality Planning and Standards in 2003 as a chemical listed for monitoring under the Clean Air Act. Propionaldehyde is a colorless liquid with a suffocating, fruity odor. It is used in the manufacturing of propionic acid and polyvinyl and other plastics, in the synthesis of rubber chemicals, and as a disinfectant and preservative. The chemical is released to the environment primarily through the combustion of wood, gasoline, diesel fuel, and polyethylene. Propionaldehyde is also a component of cigarette smoke and a food additive/flavoring agent. Although no studies on the effects of propionaldehyde administered by the oral route have been performed, based on its expected daily intake (below 1800 ug/day) and eventual metabolism in the citric acid cycle, it does not appear to be a safety concern for public health via ingestion. Thus, the most probable route of exposure of concern to the general population is by inhalation. The assessment will present reference values for the noncancer effects of propionaldehyde (RfD and RfC), where supported by available data, and a cancer assessment.

II. Meeting Information

Members of the public may attend the meeting as observers, and there will be a limited time for comments from the public. Please let Versar, Inc. know if you wish to make comments during the meeting. Space is limited, and reservations will be accepted on a first-come, first-served basis.

Dated: April 24, 2008.
Rebecca Clark,
Director, National Center for Environmental Assessment.

[FR Doc. E8-9734 Filed 5-1-08; 8:45 am]

BILLING CODE 6560-50-P